DEPARTMENT OF HOMELAND SECURITY

Coast Guard

33 CFR Part 117

[USCG-2009-0152]

Drawbridge Operation Regulation; Merrimack River, MA, Maintenance

AGENCY: Coast Guard, DHS.

ACTION: Notice of temporary deviation from regulations.

SUMMARY: The Commander, First Coast Guard District, has issued a temporary deviation from the regulation governing the operation of the Hines Memorial (Main Street) Bridge across the Merrimack River at mile 5.8, between Amesbury and Newburyport, Massachusetts. Under this temporary deviation the bridge may remain closed for six weeks.

DATES: This deviation is effective from March 17, 2009 through May 15, 2009.

ADDRESSES: Documents indicated in this preamble as being available in the docket are part of docket USCG-2009-0152 and are available online at http://www.regulations.gov. They are also available for inspection or copying two locations: the Docket Management Facility (M-30), U.S. Department of Transportation, West Building Ground Floor, Room W12-140, 1200 New Jersey Avenue, SE., Washington, DC 20590, between 9 a.m. and 5 p.m., Monday through Friday, except Federal holidays, and the First Coast Guard District, Bridge Branch Office, 408 Atlantic Avenue, Boston, Massachusetts 02110, between 7 a.m. and 3 p.m., Monday through Friday, except Federal holidays.

FOR FURTHER INFORMATION CONTACT: John McDonald, Project Officer, First Coast Guard District, at (617) 223-8364.

SUPPLEMENTARY INFORMATION:

The Hines Memorial (Main Street) Bridge has a vertical clearance in the closed position of 13 feet at mean high water and 20 feet at mean low water. The existing drawbridge operation regulations are listed at 33 CFR 117.5.

The bridge was damaged by a collision with a tug and barge last November. The bridge was closed to vehicular traffic as a result of that accident.

Massachusetts Highway Department (MHD), the bridge owner, requested a temporary deviation to help facilitate load testing necessary to determine if the bridge will be able to bear the vehicular traffic loads that will be present when the bridge is scheduled to be re-opened to vehicular traffic on May 15, 2009.

The waterway has seasonal recreational vessels of various sizes. There have been few requests to open the bridge during April and May in past years according to the bridge logs.

This temporary deviation is therefore necessary in order to insure that the bridge continues to operate in a safe reliable manner.

Under this temporary deviation, in effect from March 17, 2009 through May 15, 2009, the Hines Memorial (Main Street) Bridge may remain in the closed position.

In accordance with 33 CFR 117.35(e), the bridge must return to its regular operating schedule immediately at the end of the designated time period. This deviation from the operating regulations is authorized under 33 CFR 117.35.

Dated: March 17, 2009.
Gary Kassof,
Bridge Program Manager, First Coast Guard District.

[FR Doc. E9-7400 Filed 4-1-09; 8:45 am]

BILLING CODE 4910-15-P